ENVIRONMENTAL PROTECTION AGENCY

[EPA-R02-OAR-2024-0122; FRL-11822-01-R2]

Adequacy Status of the New Jersey Portion of the New York-Northern New Jersey-Long Island and Pennsylvania-Delaware Areas Submitted PM2.5 Limited Maintenance Plan, 2006 24 Hour PM2.5 Maintenance Area

AGENCY: Environmental Protection Agency (EPA).

ACTION: Notice of adequacy.

SUMMARY: In this notice, the Environmental Protection Agency (EPA) is notifying the public that we have found that the Limited Maintenance Plan for PM2.5 for the New Jersey portion of the New York-Northern New Jersey-Long Island, NNJ-NY-CT, and Philadelphia-Wilmington, PA-NJ-DE, PM2.5 maintenance areas, submitted by the New Jersey Department of Environmental Protection on July 6, 2023, is adequate for transportation conformity purposes. This revision to the State Implementation Plan is associated with the second ten-year PM2.5 Limited Maintenance Plan.

DATES: This finding is effective on June 7, 2024.

ADDRESSES: Publicly available docket materials, identified by Docket ID Number EPA-R02-OAR-2024-0122, are available either electronically through www.regulations.gov or in hard copy at the EPA Docket Center, WJC West Building, Room 3334, 1301 Constitution Ave. NW, Washington, DC. The Docket Center's hours of operations are 8:30 a.m.-4:30 p.m., Monday-Friday (except Federal Holidays). For further information on the EPA Docket Center services and the current status, see: https://www.epa.gov/dockets. You may access this Federal Register document electronically from https://www.federalregister.gov. This finding will also be available at the EPA's conformity website: https://www.epa.gov/state-and-local-transportation/conformity-adequacy-review-region-2.

FOR FURTHER INFORMATION CONTACT: Lily Black, Environmental Protection Agency Region 2, Air and Radiation Division, 290 Broadway, 25th Floor, New York, New York 10007-1866; (212) 637-3884, black.lily@epa.gov.

SUPPLEMENTARY INFORMATION: Throughout this document, whenever “we,” “us,” or “our” is used, we mean the EPA.

Today's notice is simply an announcement of a finding that we have already made. On July 6, 2023, the New Jersey Department of Environmental Protection (NJDEP) submitted a State Implementation Plan (SIP) revision establishing the second ten-year maintenance plan as a limited maintenance plan (LMP) for the New Jersey portion of the New York-Northern New Jersey-Long Island, NY-NJ-CT (Northern New Jersey) and Philadelphia-Wilmington, PA-NJ-DE (Southern New Jersey) 2006 24-hour fine particulate matter (PM2.5) maintenance areas. We announced availability of New Jersey's LMP on the EPA's transportation conformity website on August 16, 2023, (https://www.epa.gov/state-and-local-transportation/state-implementation-plans-sip-submissions-currently-under-epa#NY-NJ-CT-PM2.5) and requested comments by September 15, 2023. We received no comments in response to the adequacy review posting. EPA Region 2 sent a letter to the New Jersey Department of Environmental Protection on March 18, 2024, stating that the LMP for the Northern New Jersey and Southern New Jersey maintenance areas is adequate for transportation conformity purposes.

In October 2022, EPA issued Guidance on the Limited Maintenance Plan Option for Moderate PM2.5 Nonattainment Areas and PM2.5 Maintenance Areas (EPA-420-B-22-044). The transportation conformity regulations require that “A limited maintenance plan would have to demonstrate that it would be unreasonable to expect that such an area would experience enough motor vehicle emissions growth for a [national ambient air quality standards (NAAQS)] violation to occur.” ¹ Additionally, the PM2.5 LMP guidance suggests “an LMP may be particularly appropriate for a second maintenance plan, as the area will have demonstrated attainment of the PM2.5 NAAQS for at least 8 years.” ²

¹ See 40 CFR 93.109(e) and EPA's “Guidance on the Limited Maintenance Plan Option for Moderate PM2.5 Nonattainment Areas and PM2.5 Maintenance Areas.”

² See EPA's “Guidance on the Limited Maintenance Plan Option for Moderate PM2.5 Nonattainment Areas and PM2.5 Maintenance Areas.”

To meet the transportation conformity regulation, i.e., demonstrate that it would be unreasonable to expect that the area would experience enough motor vehicle growth for a NAAQS violation to occur, an LMP submission for an area's second maintenance plan should again address the area's PM2.5 air quality trends and its historical and projected vehicle miles traveled (VMT). Since the Northern New Jersey and Southern New Jersey areas have been attaining the PM2.5 NAAQS for 10 years, with a low risk of future exceedances, we find the LMP adequate for transportation conformity purposes. Once an area has an approved or adequate LMP for a specific pollutant and NAAQS, the area no longer needs to satisfy the regional emissions analysis for CFR 93.118 and CFR 93.119.³ A conformity determination that meets the requirements outlined in CFR 93.109(b)(Table 1), including the hot-spot requirements for projects in CO, PM10, and PM2.5 areas, is still required for these maintenance areas with an approved or adequate LMP.⁴

³ See 40 CFR 93.109(e) and EPA's “Guidance on the Limited Maintenance Plan Option for Moderate PM2.5 Nonattainment Areas and PM2.5 Maintenance Areas.”

⁴ Id.

Transportation conformity is required by Clean Air Act section 176(c). EPA's conformity rule requires that transportation plans, transportation improvement programs, and projects conform to State air quality implementation plans (SIPs) and establishes the criteria and procedures for determining whether or not they do. Conformity to a SIP means that transportation activities will not produce new air quality violations, worsen existing violations, or delay timely attainment of the NAAQS.

The criteria by which we determine whether a SIP's Limited Maintenance Plan is adequate can be found in 40 CFR 93.109(e). Please note that an adequacy review is separate from EPA's completeness review and should not be used to prejudge EPA's ultimate approval action for the SIP. Even if we find a limited maintenance plan adequate, the SIP could later be disapproved.

Authority: 42 U.S.C. 7401-7671q.

Lisa Garcia,
Regional Administrator, Region 2.

[FR Doc. 2024-11309 Filed 5-22-24; 8:45 am]

BILLING CODE 6560-50-P